DEPARTMENT OF COMMERCE

United States Patent and Trademark Office

Submission for OMB Review; Comment Request; Patent Petitions Related to Application and Reexamination Processing Fees

The United States Patent and Trademark Office (USTPO) will submit to the Office of Management and Budget (OMB) for clearance the following proposal for collection of information under the provisions of the Paperwork Reduction Act (44 U.S.C. Chapter 35).

Title: Patent Petitions Related to Application and Reexamination Processing Fees.

OMB Control Number: 0651-0059.

Form Number(s):

• PTO/SB/17P

• PTO/SB/23

• PTO/SB/24a

• PTO/SB/28 (EFS-Web only)

• PTO/SB/140 (EFS-Web only)

Type of Request: Revision of a currently existing collection.

Number of Respondents: 374,972 responses per year.

Average Hours per Response: The USPTO estimates that it takes the public approximately 5 minutes (0.08 hours) to 12 hours to complete items in this collection, depending on the petition. This includes the time to gather the necessary information, prepare the petitions and petition fee transmittals, and submit them to the USPTO. The USPTO estimates that it takes the same amount of time to gather the necessary information, prepare the submission, and submit it electronically as it does to submit the information in paper form.

Burden Hours: 42,195 hours annually.

Cost Burden: $3,147,594.80.

Needs and Uses: USPTO petitions practice provides patent applicants the ability to request certain administrative reviews of USPTO decisions and also supply additional information to applications currently being processed. The public uses the information in this collection to petition for various actions under 37 CFR 1.17(f), (g), and (h), such as petitioning for a suspension of the rules, requesting access to an assignment record, or requesting the withdrawal of an application from issue either before or after paying the issue fee. In addition, the public uses these petitions to request accelerated examination, to request abandonment of an application to avoid publication of said application, and to request certain extensions of time. The public uses the transmittal form to remit the required fees for the various petitions. The USPTO uses the information collected from the petitions and transmittal form to determine whether to grant the various requests and to ensure that the proper fees have been remitted and are processed accordingly.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0059 copy request” in the subject line of the message.

• Mail: Marcie Lovett, Records and Information Governance Division Director, Office of the Chief Technology Officer, United States Patent and Trademark Office, P.O. Box 1450, Alexandria, VA 22313-1450.

Written comments and recommendations for the proposed information collection should be sent on or before October 30, 2017 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-20835 Filed 9-28-17; 8:45 am]

BILLING CODE 3510-16-P